DEPARTMENT OF COMMERCE

International Trade Administration

[A-570-970]

Multilayered Wood Flooring From the People's Republic of China: Notice of Initiation of Changed Circumstances Review

AGENCY: Enforcement and Compliance, International Trade Administration, Department of Commerce.

SUMMARY: Based on a request from Zhejiang Yuhua Timber Co. Ltd. (Yuhua), A-Timber Flooring Company Limited (A-Timber) and Mullican Flooring Co. (Mullican) (collectively, Yuhua et al.), the Department of Commerce (Commerce) is initiating a changed circumstances review (CCR) of the antidumping duty (AD) order on multilayered wood flooring (MLWF), from the People's Republic of China (China).

DATES: Applicable December 2, 2021.

FOR FURTHER INFORMATION CONTACT: Alexis Cherry, AD/CVD Operations, Office VIII, Enforcement and Compliance, International Trade Administration, U.S. Department of Commerce, 1401 Constitution Avenue NW, Washington, DC 20230; telephone: (202) 482-0607.

SUPPLEMENTARY INFORMATION:

Background

On December 8, 2011, Commerce published the AD order on MLWF from China.¹ Under the Order, merchandise produced and exported by Yuhua has been excluded and is not subject to antidumping duty cash deposits. On September 1, 2021, Yuhua, A-Timber, and Mullican, respectively a producer, exporter, and importer of the subject merchandise, requested that Commerce initiate an expedited CCR, pursuant to section 751(b)(1) of the Tariff Act of 1930, as amended (the Act), 19 CFR 351.216, and 19 CFR 251.221(c)(3). Specifically, Yuhua et al. request that Commerce clarify that MLWF produced by Yuhua and sold through A-Timber be considered as merchandise which is “produced and exported” by Yuhua, and thus, excluded from the Order. Yuhua et al. asserts that this clarification is necessary because U.S. Customs and Border Protection has only as of late 2020 begun requiring the posting of cash deposits and the classification of such merchandise as “Type 3” entries subject to antidumping duties under the Order. On October 14, 2021, the American Manufacturers of Multilayered Wood Flooring (the petitioner) filed a letter in support of Yuhua et al.'s CCR request.² On October 15, 2021, Commerce extended the deadline to initiate this CCR.³

¹ See Multilayered Wood Flooring from the People's Republic of China: Notice of Amended Final Affirmative Determination of Sales at Less than Fair Value and Antidumping Duty Order, 76 FR 76690 (December 8, 2011), as amended in Multilayered Wood Flooring from the People's Republic of China, 77 FR 5484 (February 3, 2012) (collectively, the Order).

² See Petitioner's Letter, “Multilayered Wood Flooring from the People's Republic of China: Letter in Support of Request for Changed Circumstances Review,” dated October 14, 2021.

³ See Commerce's Letter, “Request for a Changed Circumstance Review Antidumping Duty Order on Multilayered Wood Flooring from the People's Republic of China: Extension of Initiation Deadline,” dated October 15, 2021.

Scope of the Order

Multilayered wood flooring is composed of an assembly of two or more layers or plies of wood veneer(s) ⁴ in combination with a core.⁵ The several layers, along with the core, are glued or otherwise bonded together to form a final assembled product. Multilayered wood flooring is often referred to by other terms, e.g., “engineered wood flooring” or “plywood flooring.” Regardless of the particular terminology, all products that meet the description set forth herein are intended for inclusion within the definition of subject merchandise. All multilayered wood flooring is included within the definition of subject merchandise, without regard to: Dimension (overall thickness, thickness of face ply, thickness of back ply, thickness of core, and thickness of inner plies; width; and length); wood species used for the face, back and inner veneers; core composition; and face grade. Multilayered wood flooring included within the definition of subject merchandise may be unfinished (i.e., without a finally finished surface to protect the face veneer from wear and tear) or “prefinished” (i.e., a coating applied to the face veneer, including, but not exclusively, oil or oil-modified or water-based polyurethanes, ultraviolet light cured polyurethanes, wax, epoxy-ester finishes, moisture-cured urethanes and acid curing formaldehyde finishes). The veneers may be also soaked in an acrylic-impregnated finish. All multilayered wood flooring is included within the definition of subject merchandise regardless of whether the face (or back) of the product is smooth, wire brushed, distressed by any method or multiple methods, or hand-scraped. In addition, all multilayered wood flooring is included within the definition of subject merchandise regardless of whether or not it is manufactured with any interlocking or connecting mechanism (for example, tongue-and-groove construction or locking joints). All multilayered wood flooring is included within the definition of the subject merchandise regardless of whether the product meets a particular industry or similar standard.

⁴ A “veneer” is a thin slice of wood, rotary cut, sliced or sawed from a log, bolt or flitch. Veneer is referred to as a ply when assembled.

⁵ Commerce Interpretive Note: Commerce interprets this language to refer to wood flooring products with a minimum of three layers.

The core of multilayered wood flooring may be composed of a range of materials, including but not limited to hardwood or softwood veneer, particleboard, medium-density fiberboard, high density fiberboard (HDF), stone and/or plastic composite, or strips of lumber placed edge-to-edge. Multilayered wood flooring products generally, but not exclusively, may be in the form of a strip, plank, or other geometrical patterns (e.g., circular, hexagonal). All multilayered wood flooring products are included within this definition regardless of the actual or nominal dimensions or form of the product. Specifically excluded from the scope are cork flooring and bamboo flooring, regardless of whether any of the sub-surface layers of either flooring are made from wood. Also excluded is laminate flooring. Laminate flooring consists of a top wear layer sheet not made of wood, a decorative paper layer, a core-layer of HDF, and a stabilizing bottom layer. Imports of the subject merchandise are provided for under the following subheadings of the Harmonized Tariff Schedule of the United States (HTSUS): ⁶ 4412.31.0520; 4412.31.0540; 4412.31.0560; 4412.31.0620; 4412.31.0640; 4412.31.0660; 4412.31.2510; 4412.31.2520; 4412.31.2610; 4412.31.2620; 4412.31.3175; 4412.31.4040; 4412.31.4050; 4412.31.4060; 4412.31.4070; 4412.31.4075; 4412.31.4080; 4412.31.4140; 4412.31.4160; 4412.31.4175; 4412.31.5125; 4412.31.5135; 4412.31.5155; 4412.31.5165; 4412.31.5175; 4412.31.5225; 4412.31.6000; 4412.31.9100; 4412.32.0520; 4412.32.0540; 4412.32.0560; 4412.32.0565; 4412.32.0570; 4412.32.0640; 4412.32.0665; 4412.32.2510; 4412.32.2520; 4412.32.2525; 4412.32.2530; 4412.32.2610; 4412.32.2625; 4412.32.3125; 4412.32.3135; 4412.32.3155; 4412.32.3165; 4412.32.3175; 4412.32.3185; 4412.32.3225; 4412.32.5600; 4412.32.5700; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; 4418.74.2000; 4418.74.9000; 4418.75.4000; 4418.75.7000; 4418.79.0100; and 9801.00.2500. While HTSUS subheadings are provided for convenience and customs purposes, the written description of the subject merchandise is dispositive.

⁶ On October 31, 2018, we added the following HTS numbers to update the ACE Case Reference File: 4412.33.0640, 4412.33.0665, 4412.33.0670, 4412.33.2625, 4412.33.2630, 4412.33.3225, 4412.33.3235, 4412.33.3255, 4412.33.3275, 4412.33.3285, 4412.33.5700, 4412.34.2600, 4412.34.3225, 4412.34.3235, 4412.34.3255, 4412.34.3275, 4412.34.3285, 4412.34.5700, 4418.74.2000, 4412.74.9000, 4418.75.4000, and 4418.75.7000. See Memorandum, “Multilayered Wood Flooring from the People's Republic of China (A-570-970): Request from Customs and Border Protection to Update the ACE AD/CVD Case Reference File,” dated October 31, 2018.

Initiation of Changed Circumstances Review

Pursuant to section 751(b) of the Act, Commerce will conduct a CCR upon receipt of a request from an interested party ⁷ that shows changed circumstances sufficient to warrant a review of an order. In accordance with 19 CFR 351.216(d), Commerce determines that the questions raised by Yuhua et al. concerning the appropriateness of excluding A-Timber's sales of subject merchandise from the Order constitute a sufficient basis to conduct a CCR of the Order. Therefore, in accordance with section 751(b)(1)(A) of the Act and 19 CFR 351.216(d) and (e), we are initiating a CCR based upon the information contained in Yuhua et al.'s submission.

⁷ Yuhua, et al. reported in its September 1, 2021 request for a CCR that Yuhua, A-Timber and Mullican are respectively the producer, an exporter and an importer of MLWF. As such,Yuhua et al. is an interested party within the meaning of section 771(9)(A) of the Act and 19 CFR 351.102(b)(29)(i) and (ii).

In the event that Commerce determines an expedited action is warranted, 19 CFR 351.221(c)(3)(ii) permits Commerce to combine the notice of initiation of the review and the preliminary results of review into a single notice. However, we are not combining this notice of initiation with the preliminary results, pursuant to 19 CFR 351.221(c)(3)(ii), because Commerce has determined that it is necessary to issue a questionnaire to Yuhua et al. regarding A-Timber's role in the sales channel for subject merchandise and provide interested parties with an opportunity to comment. After examining any comments and following up with any additional questionnaires as needed, we intend to issue the preliminary results of this CCR.

Preliminary and Final Results of the CCRs

Commerce intends to publish in the Federal Register a notice of the preliminary results of this AD CCR in accordance with 19 CFR 351.221(b)(4) and (c)(3)(i). Commerce will set forth its preliminary factual and legal conclusions in that notice. Unless extended, Commerce will issue the final results of this CCR in accordance with the time limits set forth in 19 CFR 351.216(e).

Notification to Interested Parties

This initiation notice is published in accordance with section 751(b)(1) of the Act, 19 CFR 351.216(d), and 19 CFR 351.221(b)(1). Further, interested parties are reminded that the next opportunity to request an administrative review of entries that may be examined in this CCR is December 2021.⁸ Should Commerce receive a timely request for review and initiate an administrative review with respect to such entries, those entries would remain suspended from liquidation pursuant to 19 CFR 351.212. Thus, to ensure fulsome consideration of the issues raised in Yuhua et al.'s request for a CCR, interested parties are encouraged to follow Commerce's procedures in the forthcoming notice of opportunity to request administrative review of the Order in requesting a review of the relevant entries.

⁸ See 19 CFR 351.213(b)(1). The anniversary month of the Order is December.

Dated: November 23, 2021.
James Maeder,
Deputy Assistant Secretary for Antidumping and Countervailing Duty Operations.

[FR Doc. 2021-26020 Filed 12-1-21; 8:45 am]

BILLING CODE 3510-DS-P